FEDERAL COMMUNICATIONS COMMISSION

[FR ID 68945]

Open Commission Meeting Thursday, January 27, 2022

January 20, 2022.

The Federal Communications Commission will hold an Open Meeting on the subjects listed below on Thursday, January 27, 2022, which is scheduled to commence at 10:30 a.m.

Due to the current COVID-19 pandemic and related agency telework and headquarters access policies, this meeting will be in a wholly electronic format and will be open to the public on the internet via live feed from the FCC's web page at www.fcc.gov/live and on the FCC's YouTube channel.

Item No. | Bureau | Subject
1 | CONSUMER & GOVERNMENTAL AFFAIRS | Title: Empowering Broadband Consumers Through Transparency (CG Docket No. 22-2). Summary: The Commission will consider a Notice of Proposed Rulemaking that would propose to require that broadband internet access service providers display, at the point of sale, labels to disclose to consumers certain information about their prices, introductory rates, data allowances, broadband speeds, and management practices, among other things.
2 | WIRELINE COMPETITION | Title: Connecting Tribal Libraries (CC Docket No. 02-6). Summary: The Commission will consider a Report and Order that would amend the definition of library in the Commission's rules to clarify that Tribal libraries are eligible for support through the E-Rate Program.
3 | MEDIA | Title: Updating Outmoded Political Programming and Record-Keeping Rules (MB Docket No. 21-293). Summary: The Commission will consider a Report and Order to update outmoded political programming rules.
4 | OFFICE OF ENGINEERING & TECHNOLOGY | Title: Amendment of Part 15 of the Commission's Rules for Unlicensed Operations in the Television Bands, Repurposed 600 MHz Band, 600 MHz Guard Bands and Duplex Gap, and Channel 37 (ET Docket No. 14-165); Expanding the Economic and Innovation Opportunities of Spectrum Through Incentive Auctions (GN Docket No. 12-268); Unlicensed White Space Device Operations in the Television Bands (ET Docket No. 20-36); Unlicensed Operation in the TV Broadcast Bands (ET Docket No. 04-186). Summary: The Commission will consider a Second Order on Reconsideration and Order resolving pending issues associated with white space devices and the white spaces databases, enabling unlicensed white space devices to continue operating efficiently while protecting other spectrum users.
5 | OFFICE OF ENGINEERING & TECHNOLOGY | Title: Updating Equipment Authorization Rules (ET Docket Nos. 21-363, 19-48). Summary: The Commission will consider a Notice of Proposed Rulemaking that would propose to update existing equipment authorization rules to reflect more recent versions of the technical standards that are incorporated by reference and incorporate by reference a new technical standard so that our equipment authorization system can continue to keep pace with technology developments.
6 | MEDIA | Ttitle: Restricted Adjudicatory Matter. Summary: The Commission will consider a restricted adjudicatory matter.
7 | INTERNATIONAL | Title: National Security Matter. Summary: The Commission will consider a national security matter.
8 | ENFORCEMENT | Title: Enforcement Bureau Action. Summary: The Commission will consider an enforcement action.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2022-01488 Filed 1-25-22; 8:45 am]

BILLING CODE 6712-01-P